DEPARTMENT OF ENERGY

Office of Energy Efficiency and Renewable Energy

Energy Conservation Program for Consumer Products; Representative Average Unit Costs of Energy.

AGENCY: Office of Energy Efficiency and Renewable Energy, Department of Energy.

ACTION: Notice.

SUMMARY: In this notice, the Department of Energy (DOE or Department) is forecasting the representative average unit costs of five residential energy sources for the year 2001. The five sources are electricity, natural gas, No. 2 heating oil, propane, and kerosene. The representative unit costs of these energy sources are used in the Energy Conservation Program for Consumer Products, established by Part B of Title III of the Energy Policy and Conservation Act.

EFFECTIVE DATE: The representative average unit costs of energy contained in this notice will become effective April 9, 2001 and will remain in effect until further notice.

FOR FURTHER INFORMATION CONTACT:

Brian Card, U.S. Department of Energy, Office of Energy Efficiency and Renewable Energy, Forrestal Building, Mail Station EE-41, 1000 Independence Avenue, SW., Washington, DC 20585-0121, (202) 586-9228

Eugene Margolis, Esq., U.S. Department of Energy, Office of General Counsel, Forrestal Building, Mail Station GC-72, 1000 Independence Avenue, SW., Washington, DC 20585-0103, (202) 586-9507

SUPPLEMENTARY INFORMATION: Section 323 of the EPCA (Act) ¹ requires that DOE prescribe test procedures for the determination of the estimated annual operating costs or other measures of energy consumption for certain consumer products specified in the Act. These test procedures are found in 10 CFR Part 430, Subpart B.

¹ References to the “Act” refer to the Energy Policy and Conservation Act, as amended. 42 U.S.C. 6291—6309.

Section 323(b) of the Act requires that the estimated annual operating costs of a covered product be computed from measurements of energy use in a representative average-use cycle and from representative average unit costs of energy needed to operate such product during such cycle. The section further requires DOE to provide information regarding the representative average unit costs of energy for use wherever such costs are needed to perform calculations in accordance with the test procedures. Most notably, these costs are used under the Federal Trade Commission's appliance labeling program, established by section 324 of the Act, and in connection with advertisements of appliance energy use and energy costs, which are covered by section 323(c) of the Act.

The Department last published representative average unit costs of residential energy for use in the Energy Conservation Program for Consumer Products Other Than Automobiles on February 7, 2000. (64 FR 5860). Effective April 9, 2001, the cost figures published on February 7, 2000 will be superseded by the cost figures set forth in this notice.

The Department's Energy Information Administration (EIA) has developed the 2001 representative average unit after-tax costs of electricity, natural gas, No. 2 heating oil, propane, and kerosene prices found in this notice. The cost projections for heating oil, electricity, and natural gas are found in the fourth quarter, 2000, EIA Short-Term Energy Outlook, DOE/EIA-0226 (00/4Q), and reflect the mid-price scenario. Projections for residential propane and kerosene prices are derived from their relative prices to that of heating oil, based on 1999 averages for these three fuels. The source for these price data is the September 2000, Monthly Energy Review (DOE/EIA-0035(00/09). The Short-Term Energy Outlook and the Monthly Energy Review are available at the National Energy Information Center, Forrestal Building, Room 1F-048, 1000 Independence Avenue, SW., Washington, DC 20585, (202) 586-8800.

We provide the 2001 representative average unit costs in Table 1 pursuant to section 323(b)(4) of the Act, and they will become effective April 9, 2001. They will remain in effect until further notice.

Issued in Washington, DC, on March 2, 2001.
Abraham E. Haspel,
Acting Director, Energy Efficiency and Renewable Energy.

Table 1.—Representative Average Unit Costs of Energy for Five Residential Energy Sources
[2001]
Type of energy | Per million Btu¹ | In commonly used terms | As required by test procedure
Electricity | $24.30 | 8.29/kWh 2 3 | $.0829/kWh.
Natural gas | 8.37 | 83.7/therm⁴ or $8.63/MCF 5 6 | .00000837/Btu.
No. 2 Heating Oil | 8.86 | $1.23/gallon⁷ | .00000886/Btu.
Propane | 11.28 | $1.03/gallon⁸ | .00001128/Btu.
Kerosene | 9.41 | $1.27/gallon⁹ | .00000941/Btu.
¹ Btu stands for British thermal units.
² kWh stands for kilowatt hour.
³ 1 kWh = 3,412 Btu.
⁴ 1 therm = 100,000 Btu. Natural gas prices include taxes.
⁵ MCF stands for 1,000 cubic feet.
⁶ For the purposes of this table, one cubic foot of natural gas has an energy equivalence of 1,031 Btu.
⁷ For the purposes of this table, one gallon of No. 2 heating oil has an energy equivalence of 138,690 Btu.
⁸ For the purposes of this table, one gallon of liquid propane has an energy equivalence of 91,333 Btu.
⁹ For the purposes of this table, one gallon of kerosene has an energy equivalence of 135,000 Btu.

[FR Doc. 01-5668 Filed 3-7-01; 8:45 am]

BILLING CODE 6450-01-P